DEPARTMENT OF THE INTERIOR

Bureau of Land Management

[LLWO210000.16X.L11100000.PH0000 LXSISGST0000]

Extension of Public Comment Period and Schedule of Public Scoping Meetings and Public Meetings for the Proposed Withdrawal of Sagebrush Focal Areas in Idaho, Montana, Nevada, Oregon, Utah, and Wyoming, and an Associated Environmental Impact Statement

AGENCY: Bureau of Land Management, Interior.

ACTION: Notice.

SUMMARY: On September 24, 2015, the Bureau of Land Management (BLM) published a Notice of Proposed Withdrawal; Sagebrush Focal Areas; Idaho, Montana, Nevada, Oregon, Utah, and Wyoming and Notice of Intent to Prepare an Environmental Impact Statement for the Proposed Withdrawal in the Federal Register. This notice extends the comment period for both the proposed withdrawal and initial scoping for the environmental impact statement (EIS) being prepared to consider the merits of the proposed withdrawal and announces the times, dates, and locations of public meetings.

DATES: Written or emailed comments for scoping for the EIS and on the proposed withdrawal may be submitted through January 15, 2016. In addition, through this Notice the BLM is also announcing that it will hold public meetings in December 2015 to focus on relevant issues and environmental concerns, identify possible alternatives, help determine the scope of the EIS, and provide an opportunity for public comments on the proposed withdrawal. For dates and locations for the scoping meetings, please see the SUPPLEMENTARY INFORMATION section below.

ADDRESSES: Written comments should be sent to the BLM Director, 1849 C Street NW. (WO-200), Washington, DC 20240 or emailed to sagebrush_withdrawals@blm.gov.

FOR FURTHER INFORMATION CONTACT: Contact Mark Mackiewicz, BLM, by telephone at 435-636-3616. Persons who use a telecommunications device for the deaf (TDD) may call the Federal Information Relay Service (FIRS) at 1-800-877-8339 to reach the BLM contact person. The FIRS is available 24 hours a day, 7 days a week, to leave a message or question with the above individual. You will receive a reply during normal business hours.

SUPPLEMENTARY INFORMATION: The BLM filed an application requesting the Assistant Secretary of the Interior for Land and Minerals Management to withdraw, subject to valid existing rights, approximately 10 million acres of BLM-managed public and National Forest System lands located in the States of Idaho, Montana, Nevada, Oregon, Utah and Wyoming from location and entry under the United States mining law, but not from leasing under the mineral or geothermal leasing or mineral materials laws.

Pursuant to Section 102(2)(C) of the National Environmental Policy Act of 1969 (NEPA), the BLM will prepare an EIS and conduct public scoping meetings on the withdrawal from the mining law of approximately 10 million acres of BLM- and United States Forest Service-administered public lands, in 6 western states as identified in the Federal Register notice of September 24, 2015 (80 FR 57635). The period for initial scoping comments from the public has been extended from December 23, 2015, to January 15, 2016. These public scoping meetings will also meet the requirements under 43 CFR 2310 to provide public meetings for comment on the Notice of Proposed Withdrawal that published on September 24, 2015.

The dates, times, and locations of the meetings are as follows:

Dates & times | Locations | BLM contact
Dec. 14, 2051:
5 p.m. to 7 p.m. | Harney County Chamber of Commerce, 484 North Broadway, Burns, OR 97720 | Jody Weil, 503-808-6287.
5 p.m. to 7 p.m. | Lakeview BLM District Office, 1301 South G Street, Lakeview, OR 97630 | Jody Weil, 503-808-6287.
5 p.m. to 7 p.m. | Salt Lake City BLM Office, 2370 South Decker Lake Drive, West Valley City, UT 84119 | Megan Crandall, 801-539-4020.
Dec. 15, 2015:
4 p.m. to 6 p.m. | Best Western Vista Inn & Conference Center, 2645 Airport Way, Boise, ID 83709 | Erin Curtis, 208-373-4016.
5 p.m. to 7 p.m. | Rock Springs BLM Field Office, 280 Highway 191 North, Rock Springs, WY 82901 | Kristen Lenhardt, 307-775-6015.
5 p.m. to 7 p.m. | The Nugget, 1100 Nugget Avenue, Sparks, NV 89431 | Steve Clutter, 775-861-6629.
Dec. 16, 2015
2 p.m. to 4 p.m. | Great Northern Hotel, 2 South 1st Street East, Malta, MT 59538 | Al Nash, 406-896-5260.
4 p.m. to 6 p.m. | Shiloh Suites Conference Hotel, 780 Lindsay Blvd., Idaho Falls, ID 83402 | Erin Curtis, 208-373-4016.
5 p.m. to 7 p.m. | Elko Conference Center, 724 Moren Way, Elko, NV 89801 | Steve Clutter, 775-861-6629.

The EIS will consider a No Action alternative and consider reasonably foreseeable mineral development activities. The EIS does not support a land-use plan or a land-use plan amendment. It will provide a comprehensive programmatic NEPA analysis for the proposed action of the Secretary of the Interior withdrawing these public lands from operation of the mining law for the conservation benefit of the Greater Sage-grouse.

The BLM has initially identified the following issues for analysis in this EIS: Air quality/climate, American Indian resources, cultural resources, wilderness and wilderness characteristics, mineral resources, public health and safety, recreation, social and economic conditions, soil resources, soundscapes, special status species, vegetation resources, visual resources, water resources, and fish and wildlife habitat.

In addition, the BLM expects to address economic effects of withdrawing these public lands from operation of the mining law, wildlife habitat conservation; improvement, restoration of ecosystem processes; protection of cultural resources, watershed and vegetative community health, new listings of threatened and endangered species and consideration of other sensitive and special status species.

Steve Ellis,
Deputy Director, Bureau of Land Management.

[FR Doc. 2015-28877 Filed 11-12-15; 8:45 am]

BILLING CODE 4310-84-P